COMMITTEE FOR PURCHASE FROM PEOPLE WHO ARE BLIND OR SEVERELY DISABLED

Procurement List; Proposed Additions

AGENCY: Committee for Purchase From People Who Are Blind or Severely Disabled.

ACTION: Correction.

SUMMARY: This Notice is to correct the Contracting Activity for NSN 2540-00-587-2532, Tarpaulin, Green, 12” × 17” and NSN 2540-01-330-8062, Tarpaulin, Tan, 12″ × 17″. The correct Contracting Activity is Defense Logistics Agency Land and Maritime and not Defense Commissary Agency.

DATES: Comments must be received on or before: May 20, 2018.

ADDRESSES: Committee for Purchase From People Who Are Blind or Severely Disabled, 1401 S Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

Amy Jensen,
Director, Business Operations.

[FR Doc. 2018-09530 Filed 5-3-18; 8:45 am]

BILLING CODE 6353-01-P